DEPARTMENT OF COMMERCE

Foreign-Trade Zones Board

[B-44-2022]

Foreign-Trade Zone (FTZ) 161—Wichita, Kansas; Authorization of Production Activity; Great Plains Manufacturing, Inc. (Agricultural and Construction Equipment); Abilene, Assaria, Ellsworth, Enterprise, Kipp, Lucas, Salina, and Tipton, Kansas

On September 12, 2022, Great Plains Manufacturing, Inc. submitted a notification of proposed production activity to the FTZ Board for its facilities within FTZ 161, in Abilene, Assaria, Ellsworth, Enterprise, Kipp, Lucas, Salina, and Tipton, Kansas.

The notification was processed in accordance with the regulations of the FTZ Board (15 CFR part 400), including notice in the Federal Register inviting public comment (87 FR 57865, September 22, 2022). On January 10, 2023, the applicant was notified of the FTZ Board's decision that no further review of the activity is warranted at this time. The production activity described in the notification was authorized, subject to the FTZ Act and the FTZ Board's regulations, including Section 400.14.

Dated: January 10, 2023.
Elizabeth Whiteman,
Acting Executive Secretary.

[FR Doc. 2023-00572 Filed 1-12-23; 8:45 am]

BILLING CODE 3510-DS-P